INTERNATIONAL TRADE COMMISSION

[Investigation No. 332-579]

Lobsters: Effects of the Canada-EU Trade Agreement on the U.S. Industry; Institution of Investigation and Scheduling of Hearing

AGENCY: United States International Trade Commission.

ACTION: Notice of investigation and scheduling of a public hearing.

SUMMARY: Following receipt of a request dated July 29, 2020 from the U.S. Trade Representative (USTR) under section 332(g) of the Tariff Act of 1930 (19 U.S.C. 1332(g)), the U.S. International Trade Commission (Commission) instituted investigation No. 332-579: Lobsters: Effects of the Canada-EU Trade Agreement on the U.S. Industry.

DATES:

September 15, 2020: Deadline for filing requests to appear at the public hearing.

September 17, 2020: Deadline for filing pre-hearing briefs and statements.

September 28, 2020: Deadline for filing electronic copies of oral hearing statements.

October 1, 2020: Public hearing.

October 16, 2020: Deadline for filing post-hearing briefs and statements.

October 16, 2020: Deadline for filing all other written submissions.

January 29 2021: Transmittal of Commission report to the USTR.

ADDRESSES: All Commission offices, including the Commission's hearing rooms, are located in the United States International Trade Commission Building, 500 E Street SW, Washington, DC. All written submissions must be submitted electronically and should be addressed to the Secretary, United States International Trade Commission, 500 E Street SW, Washington, DC 20436. The public record for this investigation may be viewed on the Commission's electronic docket (EDIS) at https://edis.usitc.gov.

FOR FURTHER INFORMATION CONTACT: Project Leader Christopher Robinson (202-205-2602 or christopher.robinson@usitc.gov) or Deputy Project Leader Amelia Shister (202-205-2047 or amelia.shister@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (https://www.usitc.gov). Persons with mobility impairments who will need special assistance in gaining access to the Commission should contact the Office of the Secretary at 202-205-2000.

Background: In his letter, the USTR stated that the President, on June 24, 2020, issued a Memorandum on Protecting the United States Lobster Industry (Memorandum). He indicated that the Memorandum states, in part, that U.S. exports of lobster to the European Union (EU) appear to have been significantly and negatively affected by the recent implementation of the Comprehensive Economic and Trade Agreement (CETA) between Canada and the European Union. The Memorandum directed the USTR to request that the Commission provide a report that details any negative effects of the CETA on the United States lobster industry. The Memorandum requires the USTR to submit the report to the President, and, in consultation with the Secretary of Agriculture and Secretary of Commerce, recommend appropriate actions that may. be taken to minimize or eliminate any negative effects identified in the Commission's report.

Accordingly, the USTR, under authority delegated by the President and pursuant to section 332(g) of the Tariff Act of 1930 (19 U.S.C. 1332(g)), requested that the Commission conduct an investigation and prepare a report that details any. negative effects of the CETA on the United States lobster industry.

More specifically, the USTR asked that the Commission's report contain:

• An overview of the U.S. and Canadian lobster industries, including information on production/catch levels, employment, processing capacity, supply chains, prices, domestic consumption, and key factors that affect industry competitiveness;

• A description of trends in lobster exports from the U.S. and Canada to the EU and the United Kingdom (UK), as well as other major destination markets, including but not limited to China, over the last five years, covering the period before and after implementation of the CETA;

• Information on the tariff treatment of U.S. and Canadian exports of lobster to the EU, the UK, and other major destination markets, including China, since the implementation of the CETA; and

• A quantitative assessment of the economic effects of the CETA on the volume of U.S. exports of lobster to the EU and the UK.

The USTR asked that the Commission transmit its report not later than six months after receipt of the request, and the Commission will transmit its report by January 29, 2021. The USTR also stated that he intends to make the Commission's report available to the public in its entirety and asked that the report not include any confidential business information.

Public Hearing: A public hearing in connection with this investigation will be held via an online videoconferencing platform, beginning at 9:30 a.m. on October 1, 2020. Information about how to participate in or view the hearing, will be posted on the Commission's website at (https://usitc.gov/research_and_analysis/what_we_are_working_on.htm). Once on that web page, scroll down to the entry for investigation No. 332-579, Lobsters: Effects of the Canada-EU Trade Agreement on the U.S. Industry, and click on the link to “hearing instructions.” All written submissions in connection with the investigation must be submitted in electronic form. Requests to appear at the public hearing should be filed with the Secretary, no later than 5:15 p.m., September 15, 2020 in accordance with the requirements in the “Submissions” section below. Persons appearing at the hearing must file, with the Secretary, a copy of the oral statement they plan to present at the hearing no later than 5:15 p.m., September 28, 2020. All pre-hearing briefs and statements should be filed no later than 5:15 p.m., September 17, 2020; and all post-hearing briefs and statements should be filed no later than 5:15 p.m., October 16, 2020. In the event that, as of the close of business on September 15, 2020, no witnesses are scheduled to appear at the hearing, the hearing will be canceled. Any person interested in attending the hearing as an observer or nonparticipant should contact the Office of the Secretary at 202-205-2000 after September 15, 2020, for information concerning whether the hearing will be held.

Written Submissions: In lieu of or in addition to participating in the hearing, interested parties are invited to file written submissions concerning this investigation. All written submissions should be addressed to the Secretary, and should be received not later than 5:15 p.m., October 16, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the USTR, the Commission will not include any confidential business information in the report that it sends to the USTR or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons in an appendix to the report. Persons wishing to have a summary of their position included in the report should include a summary with their written submission, titled “Public Summary,” and should mark the summary as having been provided for that purpose. The summary may not exceed 500 words, should be in a format that can be easily converted to MS Word, and should not include any confidential business information. The summary will be published as provided if it meets these requirements and is germane to the subject matter of the investigation. The Commission will identify the name of the organization furnishing the summary and will include a link to the Commission's Electronic Document Information System (EDIS) where the full written submission can be found.

By order of the Commission.
Issued: August 24, 2020.
Lisa Barton,
Secretary to the Commission.

[FR Doc. 2020-18889 Filed 8-26-20; 8:45 am]

BILLING CODE 7020-02-P